Proclamation 9815 of October 31, 2018

National Adoption Month, 2018

By the President of the United States of America

A Proclamation

During National Adoption Month, we recognize the immeasurable love and support that adoptive parents and families provide to hundreds of thousands of children each year. We celebrate the life-changing act of adoption, bring attention to the millions of Americans who are eager to adopt, and express our gratitude to the families who have welcomed children into their lives and homes. My Administration also acknowledges the courage of those mothers and fathers who place their child for adoption. Our Nation grows stronger because of the love and sacrifice of parents, both birth and adoptive.

Adoption is a blessing for all involved. It provides needed relief to birth parents, who may not, for whatever reason, be in a position to raise a child. It fosters loving homes for children. It enables individuals to grow their families and share their love. And it fosters strong families, which are integral to ensuring strong communities and a resilient country. To secure the benefits of adoption, we must continue to assist families who are willing to adopt children in need of a permanent home and support the adoptive families already formed. We must also encourage all Americans to recognize that adoption is a powerful way to show women they are not alone in an unexpected pregnancy.

My Administration is dedicated to supporting the children in foster care who are seeking permanent homes. Unfortunately, many youth leave foster care at the age of 18 without lasting family connections. These children deserve a permanent family, which can provide them with love, stability, support, and encouragement as they pursue personal, educational, and employment goals and confront life's opportunities and challenges.

Adoption affirms the inherent value of human life and signals that every child—born or unborn—is wanted and loved. Children, regardless of race, sex, age, or disability, deserve a loving embrace into families they can call their own. This month, we honor the thousands of American families who have grown because of adoption. We also stand with those children in foster care, and we appeal to families, communities, and houses of worship across our great Nation to help these children find a permanent home.

NOW, THEREFORE, I, DONALD J. TRUMP, President of the United States of America, by virtue of the authority vested in me by the Constitution and the laws of the United States, do hereby proclaim November 2018 as National Adoption Month. I encourage all Americans to observe this month by helping children in need of a permanent home secure a more promising future with a forever family, so they may enter adulthood with the love and support we all deserve.

IN WITNESS WHEREOF, I have hereunto set my hand this thirty-first day of October, in the year of our Lord two thousand eighteen, and of the Independence of the United States of America the two hundred and forty-third.

[FR Doc. 2018-24359

Filed 11-5-18; 8:45 am]

Billing code 3295-F9-P